DEPARTMENT OF HEALTH AND HUMAN SERVICES

Administration for Children and Families

45 CFR Part 309

RIN 0970-AB73

Tribal Child Support Enforcement Programs

AGENCY: Office of Child Support Enforcement, Administration for Children and Families, Department of Health and Human Services.

ACTION: Notice of proposed rulemaking; open consultations.

SUMMARY: Notice is hereby given for the dates, locations and hotel sites for the final two Tribal consultations on the notice of proposed rulemaking (NPRM) for direct Federal funding of Tribal child support enforcement (CSE) programs which was published in the Federal Register on August 21, 2000 (65 FR 50800). In the interest of providing Tribes and Tribal organizations and the public adequate time to review and comment on the NPRM, we modified the standard 60-day comment period by extending it to 120-days. The Federal Office of Child Support Enforcement is sponsoring a total of four consultations with federally recognized Indian Tribes, the general public, and Tribal organizations during the 120-day notice and comment period to receive public comment on the proposed rule. The notice for the first two consultations was published September 13, 2000 in the Federal Register (65 FR 55261). The initial consultation was held October 3-5, 2000 in Minneapolis, Minnesota and the second consultation will be held October 24-26, 2000 in Anchorage, Alaska. This notification provides specific information for the final two consultations.

DATES: The final two consultations will be held November 1-3, 2000 in Washington, DC and November 28-30, 2000 in Phoenix, Arizona. The consultations will begin promptly at 9:00 a.m. and end at 4:30 p.m. on the first two days. The final half-day session will begin promptly at 9:00 a.m. and end at 12 noon.

ADDRESSES: The third consultation, November 1-3, 2000, will be held at the Monarch Hotel, 2401 M Street, NW, Washington, DC 20037. The telephone number for reservations is (202) 429-2400. The fourth consultation, November 28-39, 2000, will be held at the Crowne Plaza Hotel, 100 North 1st Street, Phoenix, Arizona 85004. The telephone number for reservations is (602) 333-0000. All interested parties are invited to attend these public consultations. Seating may be limited and will be available on a first-come, first-serve basis. Persons needing special assistance, such as sign language interpretation or other special accommodation, should contact the Deputy Director of the Native American Child Support Enforcement Program, Office of Child Support Enforcement, at the address listed below.

FOR FURTHER INFORMATION CONTACT: Ms. Virginia Apodaca, Deputy Director, Native American Child Support Enforcement Program, Office of Child Support Enforcement, Fourth Floor East, 370 L'Enfant Promenade, SW, Washington, DC 20447 (telephone (202) 401-9376; fax (202) 401-5559; e-mail: vapodaca@acf.dhhs.gov). These are not toll-free numbers. It is expected that there will be only four consultations.

SUPPLEMENTARY INFORMATION: The purpose of these consultations will be to provide an overview of the proposed regulations and the interim final rule to attendees. In addition, public comment will be elicited on the proposed regulation and interim final rule. Federal officials will explain both the proposed rules and interim final rules. Persons who attend the consultations may make oral presentations and/or provide written comments for the record at the consultations, at their option. We encourage persons who make oral presentations at the consultations to submit written comments in support of their presentations.

Agenda

In order to obtain the broadest public participation possible on these proposed rules, the Office of Child Enforcement plans to conduct four public consultations during the 120-day comment period. These consultations are intended to further solicit public comment, Native American and Tribal input on the Native American child support enforcement direct Federal funding proposed rule. The agenda for these consultations consists of two full days where public comments on the proposed rule will be elicited. There will also be a one-half day review of the interim funding application process for those Tribes and Tribal organizations with currently existing comprehensive child support enforcement programs wishing to submit applications for interim funding of these programs.

Public Participation

Members of the public wishing to present oral statements at the consultations should send their requests to Ms. Virginia Apodaca, Deputy Director of the Native American Child Support Enforcement Program, as soon as possible or they may register on site at the beginning of each consultation. Such requests should be made by telephone, fax machine, or mail, as shown above. The Deputy Director of the Native American Program will accommodate all such requests on site by reserving time for presentations. The order of persons making such presentations will be assigned in the order in which the requests are received. Members of the public are encouraged to limit oral statements to five minutes, but extended written statements may be submitted for the record. Members of the public also may submit written statements for inclusion in the public record without presenting oral statements. Such written statements should be sent to the Native American Child Support Enforcement Program Deputy Director, as shown above, by mail or fax at least five business days before each meeting. Minutes of all public meeting and other documents will be available for public inspection and copying at the Department of Health and Human Services (DHHS) fourteen days after the conclusion of each consultation. At DHHS, these documents will be available at the Deputy Director, Native American Child Support Enforcement Program, Office of Child Support Enforcement (OCSE), Administration for Children and Families, U.S. Department of Health and Human Services, Aerospace Building, Fourth Floor—East, 370 L'Enfant Promenade, SW, Washington, DC from 9 a.m. to 5 p.m. Questions regarding the availability of documents from DHHS should be directed to Virginia Apodaca, OCSE (telephone (202) 401-9376). This is not a toll-free number. Any written comments on the minutes should be directed to Ms. Virginia Apodaca, Deputy Director of the Native American Child Support Enforcement Program, as shown above.

Dated: October 18, 2000.
David Gray Ross,
Commissioner, Office of Child Support Enforcement.

[FR Doc. 00-27438 Filed 10-24-00; 8:45 am]

BILLING CODE 4184-01-M